DEPARTMENT OF DEFENSE

Office of the Secretary

[Transmittal No. 22-71]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 22-71, Policy Justification, and Sensitivity of Technology.

Dated: August 16, 2024.
Patricia L. Toppings,
OSD Federal Register Liaison Officer, Department of Defense.

Transmittal No. 22-71

Notice of Proposed Issuance of Letter of Offer Pursuant to Section 36(b)(1) of the Arms Export Control Act, as amended

(i) Prospective Purchaser: Republic of Poland

(ii) Total Estimated Value:

Major Defense Equipment * | $3.25 billion
Other | $0.50 billion
TOTAL | $3.75 billion

Funding Source: National Funds and Foreign Military Financing (FMF)

(iii) Description and Quantity or Quantities of Articles or Services under Consideration for Purchase:

Major Defense Equipment (MDE):

One hundred sixteen (116) M1A1 Abrams Main Battle Tanks

Twelve (12) M88A2 HERCULES Combat Recovery Vehicles

Eight (8) M1110 Joint Assault Bridges

Six (6) M577A3 Command Vehicles

Twenty-six (26) M1152A1 High Mobility Multi-Purpose Wheeled Vehicles (HMMWVs)

Twenty-six (26) M1279A1 Joint Light Tactical Vehicles (JLTV)

One hundred sixteen (116) M2 .50 Caliber Machine Guns

Two hundred thirty-two (232) M240 7.62mm Machine Guns

Six (6) AGT1500 Gas Turbine Engines

Thirty thousand nine hundred twenty-eight (30,928) 120mm M865 Target Practice; Cone Stabilized, Discarding Sabot—Tracer (TPCSDS-T) Cartridges

Twenty thousand eight hundred twenty-three (20,823) 120mm M1002 Target Practice Multipurpose Tracer (TPMP-T) Projectiles

Sixty thousand (60,000) 120mm M829A4 Armor Piercing, Fin Stabilized, Discarding Sabot-Tracer (APFSDS-T) Cartridges

Two thousand (2,000) 120mm M829A3 Armor Piercing, Fin Stabilized, Discarding Sabot-Tracer (APFSDS-T) Cartridges

Fifty thousand (50,000) 120mm M829A2 Armor Piercing, Fin Stabilized, Discarding Sabot-Tracer (APFSDS-T) Cartridges

Ten thousand (10,000) 120mm M830A1 High Explosive Anti-Tank (HEAT) TP-T Cartridges

Sixty thousand (60,000) 120mm M908 High Explosive Obstacle Reduction-Tracer (HE-OR-T) Cartridges

Seventy thousand (70,000) 120mm M1147 High Explosive Advanced Multipurpose Round Cartridges

Non-MDE:

Also included are Forward Repair Systems; Next Generation (NG) Shop Equipment Maintenance Contact (SECM) shelters; communications equipment; GPS receivers; ammunition; Spare and Repair Parts; Special Tools and Test Equipment (STTE); technical manuals and publications; new equipment training; U.S. Government and contractor technical engineering, logistics, and personnel services; and other related elements of logistics and program support.

(iv) Military Department: Army (PL-B-UEC, PL-B-UED, PL-B-UEE)

(v) Prior Related Cases, if any: PL-B-UDT

(vi) Sales Commission, Fee, etc., Paid, Offered, or Agreed to be Paid: None

(vii) Sensitivity of Technology Contained in the Defense Article or Defense Services Proposed to be Sold: See Attached Annex.

(viii) Date Report Delivered to Congress: December 6, 2022

* As defined in Section 47(6) of the Arms Export Control Act.

POLICY JUSTIFICATION

Poland—M1A1 Abrams Main Battle Tanks

The Government of Poland has requested to buy one hundred sixteen (116) M1A1 Abrams Main Battle Tanks; twelve (12) M88A2 HERCULES Combat Recovery Vehicles; eight (8) M1110 Joint Assault Bridges; six (6) M577A3 Command Vehicles; twenty-six (26) M1152A1 High Mobility Multi-purpose Wheeled Vehicles (HMMWV); twenty-six (26) M1279A1 Joint Light Tactical Vehicles (JLTV); one hundred sixteen (116) M2 .50 caliber machine guns; two hundred thirty-two (232) M240 7.62mm machine guns; six (6) AGT1500 gas turbine engines; thirty thousand nine hundred twenty-eight (30,928) 120mm M865 Target Practice, Cone Stabilized, Discarding Sabot—Tracer (TPCSDS-T) cartridges; twenty thousand eight hundred twenty-three (20,823) 120mm M1002 Target Practice Multipurpose Tracer (TPMP-T) projectiles; sixty thousand (60,000) 120mm M829A4 Armor Piercing, Fin Stabilized, Discarding Sabot-Tracer (APFSDS-T) cartridges; two thousand (2,000) 120mm M829A3 Armor Piercing, Fin Stabilized, Discarding Sabot-Tracer (APFSDS-T) cartridges; fifty thousand (50,000) 120mm M829A2 Armor Piercing, Fin Stabilized, Discarding Sabot-Tracer (APFSDS-T) Cartridges; ten thousand (10,000) 120mm M830A1 High Explosive Anti-Tank (HEAT) TP-T cartridges; sixty thousand (60,000) 120mm M908 High Explosive Obstacle Reduction-Tracer (HE-OR-T) cartridges; and seventy thousand (70,000) 120mm M1147 High Explosive Advanced Multipurpose Round cartridges. Also included are Forward Repair Systems; Next Generation (NG) Shop Equipment Maintenance Contact (SECM) shelters; communications equipment; GPS receivers; ammunition; Spare and Repair Parts; Special Tools and Test Equipment (STTE); technical manuals and publications; new equipment training; U.S. Government and contractor technical engineering, logistics, and personnel services; and other related elements of logistics and program support. The total estimated program cost is $3.75 billion.

This proposed sale will support the foreign policy goals and national security objectives of the United States by improving the security of a NATO Ally that is a force for political stability and economic progress in Europe.

The proposed sale will improve Poland's capability to meet current and future threats by providing a credible force that is capable of deterring adversaries and participating in NATO operations. Poland will have no difficulty absorbing this equipment into its armed forces.

The proposed sale of this equipment and support will not alter the basic military balance in the region.

The principal contractor(s) will be AAR, Wood Dale, IL; Allison Transmissions, Birmingham, AL; Anniston Army Depot, Anniston, AL; BAE Systems, Sterling Heights, MI; General Dynamics Land Systems (GDLS), Sterling Heights, MI; Honeywell, Phoenix, AZ; L3Harris, Melbourne, FL; Leonardo DRS, West Plains, MO; Lockheed Martin, Bethesda, MD; Palomar, Rancho Santa Margarita, CA; Pearson Engineering, Phoenix, AZ; and US Ordnance, McCarran, NV. There are no known offset agreements proposed in connection with this potential sale.

Implementation of this proposed sale will require temporary duty travel of three to five U.S. Government and contractor representatives to Poland for a duration of up to five years to support equipment fielding and training.

There will be no adverse impact on U.S. defense readiness as a result of this proposed sale.

Transmittal No. 22-71

Notice of Proposed Issuance of Letter of Offer Pursuant to Section 36(b)(1) of the Arms Export Control Act

Annex

Item No. vii

(vii) Sensitivity of Technology:

1. M1A1 Abrams Main Battle Tank: The M1A1 Abrams is a first-generation American main battle tank, produced by General Dynamics Land Systems (GDLS) and named for General Creighton Abrams. M1A1 Abrams tank components are as follows:

a. Fire Enhancement Program (FEP): The FEP is the USMC M1A1 tank equivalent to the US Army domestic 2nd GEN FLIR. The main difference between the two is in the switch-ology, with the FEP having four (4) Search/Stare options as opposed to the six (6) available on the 2nd GEN FLIR. The FEP provides lethality upgrades to increase the M1A1 tank crew's ability to detect, recognize, and identify targets. It hosts a second-generation thermal sight (Abrams Integrated Display and Targeting System-AIDATS), a North Finding Module/Far Target Location capability displayed in sight (providing up to 50x digital magnification), and Embedded diagnostics to help troubleshoot the system. The FEP increases all-weather engagement ranges, crew situational awareness and target location accuracy.

b. Inertial Reference Unit (IRU) 9181E: The IRU is an inertial navigation system that provides accurate vehicle heading, attitude, position, elevation and navigation information to the host vehicle prime system and operators, both stationary and when moving under all operating conditions.

The Inertial Reference Unit (IRU) can be configured as a navigator (NavPAC) or as a pointing device (North Finding Module, NFM). In either configuration, the IRU contains a GPS receiver that provides vehicle location and velocities as well as satellite tracking status. These GPS observations are used by the IRU's Kalman filter to improve and enhance its performance. The GPS unit is a Ground-Based GPS Receiver Application Module (GB-GRAM) provided by Rockwell-Collins. The Miniature PLGR Engine-SAASM (MPE-S), when keyed, provides the Precise Positioning System (PPS) GPS data inputs to the system. The system is a Selective Availability/Anti-Spoofing Module (SAASM) based PPS GPS. The SAASM encapsulates all classified data and signal processing into one tamper-proof module. The SAASM provides jamming and spoofing protection for US and allied forces operating in hostile environments.

c. 120mm Main Gun (Cannon) & M256 Gun Barrel: The Abrams 120mm main gun system is composed of a 120 millimeter (mm) smoothbore gun (cannon) also referred to as the M256 gun barrel; armor-piercing, fin stabilized, discarded sabot (APFSDS) and other warheads; and combustible cartridge case ammunition.

d. AGT-1500 Gas Turbine Propulsion System: The use of AGT-1500 gas turbine propulsion system in the M1A1 is a unique application of armored vehicle power pack technology.

e. Stabilized Commander's Weapon Station—(SCWS): The SCWS provides day/night remote operation of the stabilized Commander's machine gun in closed hatch mode while enhancing Situational Awareness (provides CITV-like capability to the Tank Commander Lethality). The SCWS uses a Remote Thermal Sight (RTS) and the Abrams Integrated Display and Targeting System (AIDATS) color display to generate motorized azimuth and elevation variables.

Abrams Integrated Display and Targeting System (AIDATS) operates in conjunction with the Tank Commander Single Handle and slew-to-cue capabilities to maximize accuracy, range, and lethality on the battlefield while decreasing enemy engagement time by half. The AIDATS provides an upgraded thermal and day sight on the SCWS via a high-definition camera and permanently mounted color display.

f. Driver Vision Enhancer—Abrams (DVE-A) AN/VAS-5 and Rear-View Sensor System (RVSS): The AN/VAS-5 Driver Vision Enhancer—Abrams (DVE-A) and Rear-View Sensor System (RVSS) are thermal imaging systems developed for use while driving combat vehicles and tactical wheeled vehicles. The DVE-A provides night vision capability for the Abrams tank driver. RVSS provides a rear-view camera for the Abrams tank.

DVE-A and RVSS allow for tactical vehicle movement in support of operational missions in all environmental conditions (day/night and all weather) and provides enhanced driving capability during limited visibility conditions (darkness, smoke, dust, fog, etc.).

g. Global Positioning System (GPS) AN/PSN-13 Defense Advanced GPS Receiver (DAGR): Global Positioning System (GPS) capability is currently provided to Abrams tanks using the DAGR. The DAGR is a handheld GPS receiver, which utilizes Selective Availability Anti-Spoofing Module (SAASM) security. It is used for the Abrams tank, the M88A2 HERCULES Recovery Vehicle and the Joint Assault Bridge.

h. Handheld Communication Radio AN/PRC-158: The AN/PRC-158 is a Very High Frequency/Ultra High Frequency (VHF/UHF) multiband multi-channel (dual channel) radio. It is a portable, compact, tactical software-defined combat-net radio manufactured by L3/Harris Corporation. The AN/PRC-158 includes Type 1 encryption and a Selective Availability Anti-Spoofing Module (SAASM) Global Positioning System (GPS) receiver.

i. Battle Management System (BMS): The BMS for the Poland M1A1 tank will consist of a Data Distribution Unit—Expandable (DDUx), a transceiver, and commercial software called Sitaware. It equips soldiers with secure data encryption and advanced logistics. It includes an intuitive interface with features like touch-to-zoom maps and drag-and-drop icons.

j. AN/PVS-14, Night Vision Goggles: The AN/PVS-14 Night Vision Goggle (NVG) is a lightweight, head-mounted self-contained night vision system. It is used in starlight and moonlight by individual soldiers for walking, driving vehicles, weapon firing, short-range surveillance, and such manual tasks as map reading, vehicle maintenance and administering medical aid. Each NVG consists of an objective lens assembly, image intensifier tube assembly and two eyepiece assemblies integrated into a housing. The housing is affixed to a head mount, which is held by head straps to a user's head. The assembly incorporates an infrared (IR) emitting light source, which provides illumination, when required, for close-up viewing. Eyepiece diopter adjustment is provided so the device may be worn without corrective lens.

2. M88A2 HERCULES Recovery Vehicle: The primary role of the M88A2 Heavy Equipment Recovery Combat Utility Lifting Extraction System (HERCULES) Combat Recovery Vehicle is recovery of the Abrams M1 Main Battle Tank. The 70-ton M88A2 Recovery Combat Vehicle is standard equipment to de-process, recover, and sustain the Abrams M1 Tank. The vehicle's role is to extricate combat vehicles that have become bogged down or entangled; and to repair or replace damaged parts in fighting vehicles while under fire. The M88A2 main winch is capable of 70-ton single line recovery; and a 140-ton 2:1 recovery when used with a 140-ton pulley. The A-frame boom of the M88A2 can lift 35 tons when used in conjunction with the spade down. The spade can be used for light earth moving and to anchor the vehicle when using the main winch. The M88A2 employs an Auxiliary Power Unit (APU) to provide auxiliary electrical and hydraulic power when the main engine is not in operation, the APU can also be used to slave start other vehicles.

a. AVDS-1790-8CR Engine Propulsion System is a unique modification to the standard piston engine family in the M60 series and the base M88A1.

b. Driver's Vision Enhancer (DVE-CV M88) is an un-cooled thermal imaging system developed for use while driving Combat Vehicles (CVs) and Tactical Wheeled Vehicles (TWVs). It allows for tactical vehicle movement in support of operational missions in all environmental conditions (day/night and all weather) and provides enhanced driving capability during limited visibility conditions (darkness, smoke, dust, fog, etc.). The DVE provides night vision targeting capabilities for armored vehicles and long-range night vision reconnaissance capability to the warfighter.

c. Handheld Communication Radio AN/PRC-158 is a multiband handheld radio. It is a portable, compact, tactical software-defined combat-net radio manufactured by L3/Harris Corporation.

3. M1110 Joint Assault Bridge: The M1110 Joint Assault Bridge (JAB) is a fully tracked armor engineer vehicle specifically designed to replace the M48/M60 AVLB, M104 Wolverine HAB and provide assault bridging capabilities to armored forces. The JAB System consists of an M1A1 Abrams chassis (with A2 heavy suspension) and a hydraulic bridge launch mechanism that will launch and retrieve the Heavy Assault Scissor Bridge MLC-115 Normal and MLC-124 Caution.

4. Joint Light Tactical Vehicles (JLTV): The Joint Light Tactical Vehicle (JLTV) program is a light tactical vehicle designed to replace the U.S. Military's aging High Mobility Multipurpose Wheeled Vehicle fleet. It was designed to close the existing gap in payload, performance, and protection to our adversaries during multi-domain operations. It has been an operationally optimal choice for the light tactical vehicle mission spectrum anywhere in the world. All JLTV mission variants include a strong balance of protection, maneuverability, speed, reliability, and combat support/combat service support capability that far surpasses any similar vehicle developed in its weight class today.

a. The JLTV is designed to be a system of system. System of systems is a “set or arrangement of systems that results when independent and useful systems are integrated into a larger system that delivers unique capabilities. The Joint Light Tactical Vehicle allows material and equipment from authorized contractors or industrial facilities used by U.S. forces in tactical operations and managed by other Program Offices that may have considered a type of classification. Other than its classified armor and ballistic protection, the JLTV is considered an unclassified tactical system. When adding integration C4ISR systems (installed or mounted), electronic countermeasures jamming devices, navigation systems or battle management systems to the JLTV, these integrated or installed system will increase the over security classification to the vehicle.

b. The JLTV's A/B Armor protection technical and test data of armor coupon, ballistic hull exploitation, Behind Armor Debris (BAD) and Full Up System Level (FUSL) Live Fire test data and protection levels to include Under Body (UB) blast, Under Wheel (UW) blast, Under Body (UB) IED, side attack (SA) IED, direct fire, and artillery enhancements are all classified technical information. The JLTV has inherent armor built into the base vehicle. It is what the US Government (USG) calls A-Kit armor. This A-Kit Inherent armor provides both opaque and transparent armor solutions to provide a 360-degree azimuthal (i.e., all around) to include an elevated fire level of protection from a spectrum of kinetic energy/small arms fire threats with survivability enhancements to include Automatic Fire Extinguishing Protection (AFES) and structural rollover protection of 150% of the vehicle Ground Vehicle Weight Rating (GVWR). The B-kit includes: (1) a combined underbody deflector plate and Energy Absorbent (EA) seat mechanisms to mitigate occupant incapacity (per Annex Q) for both anti-tank land mine blast and Improvised Explosive Device (IED) blast and fragmentation kill mechanisms, (2) a design that provides a higher level protection against significantly larger Under Wheel (UW) blast threats that also leverages vehicle frontal and rear tear-away structural design lessons learned from OEF and OIF, (3) a direct fire B-kit that adds on to the Inherent armor/A-Kit to defeat a higher level all-around direct fire threat, side attack IED attack blast and fragmentation kill mechanisms, with additional roof armor for top attack threats that include direct fire and artillery enhancements.

c. C4ISR systems (installed or mounted), electronic countermeasures jamming devices, navigation systems or battle management systems that are integrated or installed system in the JLTV will follow the same security guidelines based on their program security classification guide.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that Poland will provide substantially the same degree of protection for the sensitive technology being released as the U.S. Government. This sale is necessary in furtherance of the U.S. foreign policy and national security objectives outlined in the Policy Justification.

8. All defense articles and services listed in this transmittal have been authorized for release and export to the Republic of Poland.

[FR Doc. 2024-18762 Filed 8-20-24; 8:45 am]

BILLING CODE 6001-FR-P